DEPARTMENT OF HEALTH AND HUMAN SERVICES

Office of the Secretary

Office for Civil Rights; Statement of Delegation

In accordance with Executive Order 13798 Promoting Free Speech and Religious Liberty (May 4, 2017), 82 FR 21675, and the Attorney General's Guidance on Federal Law Protections for Religious Liberty (October 6, 2017), notice is hereby given that I have delegated to the Director of the Office for Civil Rights (OCR), or his or her successor, authority over implementation of and compliance with the Religious Freedom Restoration Act (RFRA), 42 U.S.C. 2000bb et seq., relating to programs or activities funded, conducted, or administered by the Department.

Pursuant to this delegation, the OCR Director shall have the authority to:

(1) Accept and investigate complaints filed by individuals or entities alleging a failure by any departmental component to comply with RFRA;

(2) conduct RFRA compliance reviews of departmental programs or activities;

(3) provide technical assistance to departmental components regarding RFRA compliance;

(4) evaluate the effectiveness of RFRA complaint processing by OCR and provide reports to appropriate oversight organizations; and

(5) initiate such other actions as may be necessary to facilitate and ensure compliance with RFRA.

This authority may be redelegated. If the OCR Director chooses to redelegate this authority, the OCR Director will maintain primary responsibility and accountability for implementation of this section. This delegation is effective upon date of signature. I hereby affirm and ratify any actions taken by the Director of OCR or subordinates which involved the exercise of the authorities delegated herein prior to the effective day of this delegation.

Dated: December 7, 2017.
Eric D. Hargan,
Acting Secretary, Department of Health and Human Services.

[FR Doc. 2018-00816 Filed 1-18-18; 8:45 am]

BILLING CODE 4153-01-P